COMMISSION ON CIVIL RIGHTS

Hearing on the Department of Justice's Actions Related to the New Black Panther Party Litigation and Its Enforcement of Section 11(b) of the Voting Rights Act

AGENCY: United States Commission on Civil Rights.

ACTION: Notice of hearing.

Date and Time: Friday, March 19, 2010; 9:30 a.m. EST.

Place: U.S. Commission on Civil Rights, 624 Ninth Street, NW., Room 540, Washington, DC 20425.

Summary: Notice is hereby given pursuant to the provisions of the Civil Rights Commission Amendments Act of 1994, 42 U.S.C. 1975a, and 45 CFR 702.3., that public hearings before the U.S. Commission on Civil Rights will commence on Friday, March 19, 2010, beginning at 9:30 a.m. EST in Washington, DC at the Commission's offices located at 624 Ninth Street, NW., Room 540, Washington, DC 20425. An executive session not open to the public may be convened at any appropriate time before or during the hearing.

The purpose of this hearing is to collect information within the jurisdiction of the Commission, under 42 U.S.C. 1975a, related particularly to the Department of Justice's actions in the New Black Panther Party Litigation and enforcement of Section 11(b) of the Voting Rights Act.

The Commission is authorized to hold hearings and to issue subpoenas for the production of documents and the attendance of witnesses pursuant to 45 CFR 701.2. The Commission is an independent bipartisan, fact finding agency authorized to study, collect, and disseminate information, and to appraise the laws and policies of the Federal Government, and to study and collect information with respect to discrimination or denials of equal protection of the laws under the Constitution because of race, color, religion, sex, age, disability, or national origin, or in the administration of justice. The Commission has broad authority to investigate allegations of voting irregularities even when alleged abuses do not involve discrimination.

Contact Person for Further Information: Lenore Ostrowsky, Acting Chief, Public Affairs Unit (202) 376-8591. TDD: (202) 376-8116.

Persons with a disability requiring special services, such as an interpreter for the hearing impaired, should contact Pamela Dunston at least seven days prior to the scheduled date of the hearing at 202-376-8105. TDD: (202) 376-8116.

Dated: February 12, 2010.
David Blackwood,
General Counsel.

[FR Doc. 2010-3168 Filed 2-18-10; 8:45 am]

BILLING CODE 6335-01-P